DEPARTMENT OF COMMERCE

Bureau of the Census

[Docket Number 010209034-2084-04]

Qualifying Urban Areas for Census 2000

AGENCY: Bureau of the Census, Department of Commerce.

ACTION: Notice.

SUMMARY: This Notice provides the list of urbanized areas¹ that qualified based on the results of the 2000 Census of Population and Housing for the United States, Puerto Rico, and the Island Areas.² The Bureau of the Census (Census Bureau) determined these urbanized areas using the urban area criteria published in the Federal Register on March 15, 2002 (67 FR 11663).³ In addition, this Notice alerts data users to the future availability of lists of (1) urban clusters and (2) major airports evaluated for inclusion in qualifying urbanized areas and urban clusters.⁴

¹ An urbanized area consists of densely settled territory that contains 50,000 or more people.

² The Island Areas are American Samoa, Guam, the Northern Mariana Islands, and the Virgin Islands of the United States.

³ An urbanized area delineated as a result of a special census conducted by the Census Bureau during this decade (an intercensal urbanized area), at the request and expense of local governments, will be qualified using these criteria and the population counts reported in that special census.

⁴ An urban cluster consists of densely settled territory that contains at least 2,500 people, but fewer than 50,000 people. Major airports adjoining qualifying urbanized areas and urban clusters are those airports that, according to 2000 Federal Aviation Administration statistics, had an annual enplanement of at least 10,000 people, and thus qualified as a primary airport in that year.

EFFECTIVE DATE: This Notice is effective immediately.

FOR FURTHER INFORMATION CONTACT: Robert Marx, Chief, Geography Division, U.S. Census Bureau, 4700 Silver Hill Road-Stop 7400, Washington, DC 20233-7400; telephone (301) 457-2131; e-mail at: ua@geo.census.gov.

SUPPLEMENTARY INFORMATION: The Census Bureau identifies and tabulates data for the urban and rural populations and their associated areas solely for the presentation and comparison of census statistical data. The Census Bureau does not take into account or attempt to anticipate any nonstatistical uses that may be made of these areas or their associated data, nor does it attempt to meet the requirements of such nonstatistical program uses. Nonetheless, the Census Bureau recognizes that some federal and state agencies are required by law to use Census Bureau-defined urban and rural classifications for allocating program funds, setting program standards, and implementing aspects of their programs. The agencies that make such nonstatistical uses of the areas and data should be aware that the changes to the urban and rural criteria for Census 2000 might affect the implementation of their programs.

If a federal, state, local, or tribal agency voluntarily uses these urban and rural criteria in a nonstatistical program, it is that agency's responsibility to ensure that the criteria are appropriate for such use. In considering the appropriateness of such nonstatistical program uses, the Census Bureau urges each agency to consider permitting appropriate modifications of the results of implementing the urban and rural criteria specifically for the purposes of its program. When a program permits such modifications, the Census Bureau urges each agency to use descriptive terminology that clearly identifies the different criteria being applied so as to avoid confusion with the Census Bureau's official urban and rural classifications.

The Census Bureau examined the use of nonresidential land-use data (other than major airports) to better define urban areas, but it could not find a consistent national database that identifies such areas. This was documented in the final criteria published in the Federal Register on March 15, 2002 (67 FR 11663). As a result, many nonresidential areas that would be perceived as clearly part of the urban framework (for example, industrial, commercial, and other types of developed areas with employment) do not qualify for inclusion in a Census 2000 urban area. The Census Bureau is continuing research to determine if there are objective and consistent ways to address issues involving inclusion of nonresidential urban land uses in urban areas in future censuses. For this reason, the Census Bureau stresses the need for users of this urban area information for purposes other than statistical comparison of Census Bureau data to examine the applicability of the areas defined and allow for modifications for nonstatistical purposes.

Executive Order 12866

This Notice is not significant for purposes of Executive Order 12866.

Regulatory Flexibility Act

Because a Notice and opportunity for public comment are not required by 5 U.S.C. 553, or any other law, for lists of urbanized areas, this Notice is not subject to the analytical requirements of the Regulatory Flexibility Act. Thus, a Regulatory Flexibility Analysis is not required and none has been prepared (5 U.S.C. 603[a]).

Paperwork Reduction Act

This Notice does not represent a collection of information subject to the requirements of the Paperwork Reduction Act, Title 44, U.S.C., Chapter 35.

Urbanized Areas, Urban Clusters, and Major Airports

This section of the Notice provides lists of the Census 2000 urbanized areas. It also refers to the location of listings of urban clusters and major airports.

As a result of Census 2000, there are 453 urbanized areas in the United States, 11 urbanized areas in Puerto Rico, one urbanized area in Guam, and one urbanized area in the Commonwealth of the Northern Mariana Islands, for a total of 466 urbanized areas. This represents a net increase of 61 urbanized areas from the 405 urbanized areas defined based on 1990 census results—396 in the United States and 9 in Puerto Rico. The increase consists of 76 entirely new urbanized areas, plus an additional 15 urbanized areas created from splitting existing areas, minus 29 areas lost through combination and one 1990 urbanized area failing to qualify.

As noted, the Census Bureau defined the Census 2000 urbanized areas using the criteria published in the Federal Register on March 15, 2002 (67 FR 11663), but in four cases—Hagåtña GU; St. Charles, MD; Saipan, MP; and The Woodlands, TX—it departed from the criteria when it created a title for an urbanized area. For St. Charles and The Woodlands, an incorporated place with a population of at least 2,500 did exist within the urbanized area, but a well-known, locally identifiable census designated place with more than ten times the population of the incorporated place also existed within the urbanized area. In order to make the areas more identifiable, the Census Bureau decided to use the name of the larger census designated place in the title.

The urbanized areas defined for the first time in the Island Areas—Hagåtña, GU, and Saipan, MP—were named for the designated capitals of Guam and the Commonwealth of the Northern Mariana Islands, respectively, to identify more clearly the most important centers within each urbanized area.

A. Significant Urbanized Area Changes

There have been significant changes in the Census 2000 universe of urbanized areas from those defined, based on the 1990 census and criteria. These changes include new areas, areas formed by splits or mergers, name changes, and areas with significant boundary changes.

1. There are 76 urbanized areas newly qualified for Census 2000; these were not part of any 1990 census urbanized area (UA):

Ames, IA

Atascadero—El Paso de Robles (Paso Robles), CA

Avondale, AZ

Bend, OR

Blacksburg, VA

Bowling Green, KY

Carson City, NV

Cleveland, TN

Coeur d'Alene, ID

Columbus, IN

Corvallis, OR

Dalton, GA

Danville, IL ⁵

⁵ Danville, IL qualified as an urbanized area as a result of the 1980 census but failed to qualify as an urbanized area for the 1990 census, and therefore is treated as a new urbanized area.

DeKalb, IL

El Centro, CA

Fairbanks, AK

Fajardo, PR

Farmington, NM

Flagstaff, AZ ⁶

⁶ Flagstaff, AZ did not qualify as an urbanized area as a result of the 1990 census but was qualified as an urbanized area in 1996 based on the results of a special census taken in 1995.

Florida—Barceloneta—Bajadero, PR

Fond du Lac, WI

Gainesville, GA

Guayama, PR

Hagåtña, GU

Harrisonburg, VA

Hazleton, PA

Hightstown, NJ

Hinesville, GA

Hot Springs, AR

Jefferson City, MO

Jonesboro, AR

Juana Díaz, PR

Kingston, NY

Lady Lake, FL

Lafayette—Louisville, CO

Lake Jackson—Angleton, TX

Lebanon, PA

Leesburg—Eustis, FL

Lewiston, ID—WA

McKinney, TX

Madera, CA

Mandeville—Covington, LA

Manteca, CA

Michigan City, IN-MI

Middletown, NY

Monroe, MI

Morgantown, WV

Morristown, TN

Mount Vernon, WA

Murfreesboro, TN

Nampa, ID

Petaluma, CA

Porterville, CA

Prescott, AZ

Radcliff—Elizabethtown, KY

St. Augustine, FL

St. Charles, MD

St. George, UT

Saipan, MP

Salisbury, MD—DE

Sandusky, OH

San Germán—Cabo Rojo—Sabana Grande, PR

Saratoga Springs, NY

South Lyon—Howell—Brighton, MI

Temecula—Murrieta, CA

The Woodlands, TX

Tracy, CA

Turlock, CA

Uniontown—Connellsville, PA

Valdosta, GA

Wenatchee, WA

Westminster, MD

Wildwood—North Wildwood—Cape May, NJ

Winchester, VA

Yauco, PR

Zephyrhills, FL

2. There are 17 urbanized areas formed by merging 46 of the 1990 census urbanized areas:

Baltimore, MD (Annapolis, MD and Baltimore, MD)

Boston, MA-NH—RI (Boston, MA; Brockton, MA; Lawrence—Haverhill, MA-NH; Lowell, MA-NH; and Taunton, MA)

Bridgeport—Stamford, CT-NY (Bridgeport—Milford, CT; Norwalk, CT; and Stamford, CT-NY)

Chicago, IL-IN (Aurora, IL; Chicago, IL-Northwestern Indiana; Crystal Lake, IL; Elgin, IL; and Joliet, IL)

Cincinnati OH-KY-IN (Cincinnati, OH-KY and Hamilton, OH)

Denton—Lewisville, TX (Denton, TX and Lewisville, TX)

Hartford, CT (Bristol, CT; Hartford—Middletown, CT; and New Britain, CT)

Indio—Cathedral City—Palm Springs, CA (Indio—Coachella, CA and Palm Springs, CA)

Miami, FL (Fort Lauderdale—Hollywood—Pompano Beach, FL; Miami—Hialeah, FL; and West Palm Beach—Boca Raton—Delray Beach, FL)

Philadelphia, PA-NJ-DE-MD (Philadelphia, PA-NJ, and Wilmington, DE-NJ-MD-PA)

Port St. Lucie, FL (Fort Pierce, FL and Stuart, FL)

Poughkeepsie—Newburgh, NY (Newburgh, NY and Poughkeepsie, NY)

Providence, RI-MA (Fall River, MA-RI; Newport, RI; and Providence—Pawtucket, RI-MA)

Richmond, VA (Petersburg, VA and Richmond, VA)

San Juan, PR (Caguas, PR; Cayey, PR; Humacao, PR; and Vega Baja—Manatí, PR)

Seattle, WA (Seattle, WA and Tacoma, WA)

Youngstown, OH-PA (Sharon, PA-OH and Youngstown, OH)

3. There are 25 urbanized areas formed from splitting ten of the 1990 census urbanized areas:

Aberdeen—Havre de Grace—Bel Air, MD and Baltimore, MD (Baltimore, MD)

Camarillo, CA; Oxnard, CA; and Thousand Oaks, CA (Oxnard—Ventura, CA)

Concord, CA; Livermore, CA; San Francisco—Oakland, CA; San Rafael—Novato, CA; and Vallejo, CA (San Francisco—Oakland, CA)

Dover—Rochester, NH-ME and Portsmouth, NH-ME (Portsmouth—Dover—Rochester, NH-ME)

Gilroy—Morgan Hill, CA, and San Jose, CA (San Jose, CA)

Greenville, SC and Mauldin—Simpsonville, SC (Greenville, SC)

Kansas City, MO-KS and Lee's Summit, MO (Kansas City, MO-KS)

Los Angeles—Long Beach—Santa Ana, CA; Mission Viejo, CA; and Santa Clarita, CA (Los Angeles, CA)

Marysville, WA and Seattle, WA (Seattle, WA)

Norman, OK and Oklahoma City, OK (Oklahoma City, OK)

4. One 1990 census urbanized area failed to qualify as a Census 2000 urbanized area:

Cumberland, MD-WV

5. There are 44 urbanized areas with other significant changes (unrelated to splits and mergers) to their 1990 census boundaries:

Akron, OH: does not include a part of the 1990 census urbanized area (UA), which was transferred to the Census 2000 Cleveland, OH UA.

Anchorage, AK: does not include the separate Northwest Anchorage, AK urban cluster (UC), which was defined from part of the 1990 census UA.

Beloit, WI-IL: does not include a part of the 1990 census UA, which was transferred to the Census 2000 Rockford, IL UA.

Bridgeport—Stamford, CT-NY: contains part of the 1990 census New York, NY-Northeastern New Jersey UA.

Charlotte, NC-SC: contains part of the 1990 census Rock Hill, SC UA.

Cincinnati, OH-KY-IN: contains part of the 1990 census Middletown, OH UA.

Cleveland, OH: contains parts of the 1990 census Akron, OH and Lorain—Elyria, OH UAs.

Dayton, OH: contains part of the 1990 census Middletown, OH-UA.

Decatur, AL: does not include the separate Hartselle, AL UC, which was defined from part of the 1990 census UA.

Fairfield, CA: does not include the separate Fairfield Southwest, CA UC, which was defined from part of the 1990 census UA.

Gadsden, AL: does not include significant portions of the 1990 census UA, which did not qualify for inclusion in the Census 2000 UA.

Houston, TX: contains part of the 1990 census Texas City, TX UA.

Jackson, MS: does not include the separate Langford, MS, and Richland, MS UCs, which were defined from parts of the 1990 census UA.

Kissimmee, FL: contains part of the 1990 census Orlando, FL UA.

Lewiston, ME: does not include the separate Lisbon Falls, ME UC, which was defined from part of the 1990 census UA, and additional significant portions of the 1990 census UA, which did not qualify for inclusion in the Census 2000 UA.

Lorain—Elyria, OH: does not include part of the 1990 census UA, which was transferred to the Census 2000 Cleveland, OH UA.

Miami, FL: does not include the separate Key Biscayne, FL UC, which was defined from part of the 1990 census UA.

Middletown, OH: does not include parts of the 1990 census UA, which were transferred to the Census 2000 Cincinnati, OH-KY-IN, and Dayton, OH UAs.

Monessen, PA: does not include the separate California, PA UC, which was defined from part of the 1990 census UA.

Montgomery, AL: does not include the separate Prattville, AL UC, which was defined from part of the 1990 census UA.

New York—Newark, NY-NJ-CT: does not include a part of the 1990 census UA, which was transferred to the Census 2000 Bridgeport—Stamford, CT-NY UA.

Odessa, TX: does not include significant portions of the 1990 census UA, which did not qualify for inclusion in the Census 2000 UA.

Ogden—Layton, UT: contains part of the 1990 census Salt Lake City, UT UA.

Orlando, FL: does not include a part of the 1990 census UA, which was transferred to the Census 2000 Kissimmee, FL UA.

Pascagoula, MS: does not include significant portions of the 1990 census UA, which did not qualify for inclusion in the Census 2000 UA.

Philadelphia, PA-NJ-DE-MD: contains part (entire Pennsylvania portion) of the 1990 census Trenton, NJ—PA UA.

Ponce, PR: does not include a part of the 1990 census UA, which was transferred to the Census 2000 Yauco, PR UA.

Rockford, IL: contains part of the 1990 census Beloit, WI—IL UA.

Rock Hill, SC: does not include a part of the 1990 census UA, which was transferred to the Census 2000 Charlotte, NC—SC UA.

Salt Lake City, UT: does not include a part of the 1990 census UA, which was transferred to the Census 2000 Ogden—Layton, UT UA.

San Francisco—Oakland, CA: contains part of the 1990 census San Jose, CA UA.

San Jose, CA: does not include a part of the 1990 census UA, which was transferred to the Census 2000 San Francisco—Oakland, CA UA.

Savannah, GA: does not include the separate Pooler, GA UC, which was defined from part of the 1990 census UA.

Simi Valley, CA: does not include a part of the 1990 census UA, which was transferred to the Census 2000 Thousand Oaks, CA UA.

Texas City, TX: does not include a part of the 1990 census UA, which was transferred to the Census 2000 Houston, TX UA.

Thousand Oaks, CA: contains part of the 1990 census Simi Valley, CA UA.

Trenton, NJ: does not include a part (entire Pennsylvania portion) of the 1990 census UA, which was transferred to the Census 2000 Philadelphia, PA-NJ-DE-MD UA.

Tucson, AZ: does not include the separate Tucson South (Arizona State Prison Complex) AZ and Tucson Southeast, AZ UCs, which were defined from part of the 1990 census UA.

Utica, NY: does not include the separate Rome, NY UC, which was defined from part of the 1990 census UA (Utica—Rome, NY).

Vineland, NJ: does not include the separate Laurel Lake, NJ UC, which was defined from part of the 1990 census UA.

Virginia Beach, VA: does not include the separate Suffolk, VA UC, which was defined from part of the 1990 census UA (Norfolk—Virginia Beach—Newport News, VA).

Yauco, PR: contains part of the 1990 census Ponce, PR UA.

6. There are 72 urbanized areas with changes to their 1990 census names (unrelated to mergers or splits):

Aguadilla—Isabela—San Sebastian, PR, was Aguadilla, PR.

Albany, NY, was Albany—Schenectady—Troy, NY.

Allentown—Bethlehem, PA-NJ, was Allentown—Bethlehem—Easton, PA-NJ.

Antioch, CA, was Antioch—Pittsburg, CA.

Appleton, WI, was Appleton—Neenah, WI.

Athens-Clarke County, GA, was Athens, GA.

Auburn, AL, was Auburn—Opelika, AL.

Augusta-Richmond County, GA-SC, was Augusta, GA-SC.

Barnstable Town, MA, was Hyannis, MA.

Benton Harbor—St. Joseph, MI, was Benton Harbor, MI.

Binghamton, NY-PA, was Binghamton, NY.

Bonita Springs—Naples, FL, was Naples, FL.

Brooksville, FL, was Spring Hill, FL.

Buffalo, NY, was Buffalo—Niagara Falls, NY.

Cape Coral, FL, was Fort Myers—Cape Coral, FL.

Champaign, IL, was Champaign—Urbana, IL.

Charleston—North Charleston, SC, was Charleston, SC.

Charlotte, NC-SC, was Charlotte, NC.

Chicago, IL-IN, was Chicago, IL-Northwestern Indiana.

Cincinnati, OH-KY-IN, was Cincinnati, OH-KY.

College Station-Bryan, TX, was Bryan-College Station, TX.

Concord, NC, was Kannapolis, NC.

Dallas-Fort Worth-Arlington, TX, was Dallas-Fort Worth, TX.

Davenport, IA-IL, was Davenport-Rock Island-Moline, IA-IL.

Daytona Beach-Port Orange, FL, was Daytona Beach, FL.

Denver-Aurora, CO, was Denver, CO.

Dubuque, IA-IL, was erroneously shown in 1990 census electronic files and some 1990 census reports as Dubuque, IA-IL-WI. (The UA was not in Wisconsin.)

Eugene, OR, was Eugene-Springfield, OR.

Fargo, ND-MN, was Fargo-Moorhead, ND-MN.

Gulfport-Biloxi, MS, was Biloxi-Gulfport, MS.

Hagerstown, MD-WV-PA, was Hagerstown, MD-PA-WV.

Hemet, CA, was Hemet-San Jacinto, CA.

Huntington, WV-KY-OH, was Huntington-Ashland, WV-KY-OH.

Kailua (Honolulu County)-Kaneohe, HI, was Kailua, HI.

Kennewick-Richland, WA, was Richland-Kennewick, WA.

Lafayette, IN, was Lafayette-West Lafayette, IN.

Lansing, MI, was Lansing-East Lansing, MI.

Leominster-Fitchburg, MA, was Fitchburg-Leominster, MA.

Lewiston, ME, was Lewiston-Auburn, ME.

Little Rock, AR, was Little Rock-North Little Rock, AR.

Los Angeles-Long Beach-Santa Ana, CA, was Los Angeles, CA.

McAllen, TX, was McAllen-Edinburg-Mission, TX.

Memphis, TN-MS-AR, was Memphis, TN-AR-MS.

Miami, FL, was Miami-Hialeah, FL.

Nashua, NH-MA, was Nashua, NH.

Nashville-Davidson, TN, was Nashville, TN.

New Haven, CT, was New Haven-Meriden, CT.

New York-Newark, NY-NJ-CT, was New York, NY-Northeastern New Jersey.

North Port-Punta Gorda, FL, was Punta Gorda, FL.

Norwich-New London, CT, was New London-Norwich, CT.

Ogden-Layton, UT, was Ogden, UT.

Olympia-Lacey, WA, was Olympia, WA.

Palm Bay-Melbourne, FL, was Melbourne-Palm Bay, FL.

Pensacola, FL-AL, was Pensacola, FL.

Portland, OR-WA, was Portland-Vancouver, OR-WA.

Port St. Lucie, FL, was Fort Pierce, FL.

Providence, RI-MA, was Providence-Pawtucket, RI-MA.

Round Lake Beach-McHenry-Grayslake, IL-WI, was Round Lake Beach-McHenry, IL-WI.

Scranton, PA, was Scranton-Wilkes-Barre, PA.

Seaside-Monterey-Marina, CA, was Seaside-Monterey, CA.

Sherman, TX, was Sherman-Denison, TX.

South Bend, IN-MI, was South Bend-Mishawaka, IN-MI.

Spokane, WA-ID, was Spokane, WA.

Tampa-St. Petersburg, FL, was Tampa-St. Petersburg-Clearwater, FL.

Trenton, NJ, was Trenton, NJ-PA.

Utica, NY, was Utica-Rome, NY.

Vero Beach-Sebastian, FL, was Vero Beach, FL.

Victorville-Hesperia-Apple Valley, CA, was Hesperia-Apple Valley-Victorville, CA.

Virginia Beach, VA, was Norfolk-Virginia Beach-Newport News, VA.

Washington, DC-VA-MD, was Washington, DC-MD-VA.

Waterloo, IA, was Waterloo-Cedar Falls, IA.

Weirton, WV-Steubenville, OH-PA, was Steubenville-Weirton, OH-WV-PA.

B. List of Urbanized Areas

An alphabetical list of all qualifying urbanized areas follows. The population counts relate to data reported for Census 2000.

Urbanized area | Population
Aberdeen—Havre de Grace—Bel Air, MD | 174,598
Abilene, TX | 107,041
Aguadilla—Isabela—San Sebastián, PR | 299,086
Akron, OH | 570,215
Albany, GA | 95,450
Albany, NY | 558,947
Albuquerque, NM | 598,191
Alexandria, LA | 78,504
Allentown—Bethlehem, PA-NJ | 576,408
Alton, IL | 84,655
Altoona, PA | 82,520
Amarillo, TX | 179,312
Ames, IA | 50,726
Anchorage, AK | 225,744
Anderson, IN | 97,038
Anderson, SC | 70,436
Ann Arbor, MI | 283,904
Anniston, AL | 75,840
Antioch, CA | 217,591
Appleton, WI | 187,683
Arecibo, PR | 145,643
Asheville, NC | 221,570
Atascadero—El Paso de Robles (Paso Robles), CA | 54,762
Athens-Clarke County, GA | 106,482
Atlanta, GA | 3,499,840
Atlantic City, NJ | 227,180
Auburn, AL | 60,137
Augusta-Richmond County, GA-SC | 335,630
Austin, TX | 901,920
Avondale, AZ | 67,875
Bakersfield, CA | 396,125
Baltimore, MD | 2,076,354
Bangor, ME | 58,983
Barnstable Town, MA | 243,667
Baton Rouge, LA | 479,019
Battle Creek, MI | 79,135
Bay City, MI | 74,048
Beaumont, TX | 139,304
Bellingham, WA | 84,324
Beloit, WI-IL | 56,462
Bend, OR | 57,525
Benton Harbor—St. Joseph, MI | 61,745
Billings, MT | 100,317
Binghamton, NY-PA | 158,884
Birmingham, AL | 663,615
Bismarck, ND | 74,991
Blacksburg, VA | 57,236
Bloomington, IN | 92,456
Bloomington—Normal, IL | 112,415
Boise City, ID | 272,625
Bonita Springs—Naples, FL | 221,251
Boston, MA-NH-RI | 4,032,484
Boulder, CO | 112,299
Bowling Green, KY | 58,314
Bremerton, WA | 178,369
Bridgeport—Stamford, CT-NY | 888,890
Bristol, TN—Bristol, VA | 58,472
Brooksville, FL | 102,193
Brownsville, TX | 165,776
Brunswick, GA | 51,653
Buffalo, NY | 976,703
Burlington, NC | 94,248
Burlington, VT | 105,365
Camarillo, CA | 62,798
Canton, OH | 266,595
Cape Coral, FL | 329,757
Carson City, NV | 58,263
Casper, WY | 57,719
Cedar Rapids, IA | 155,334
Champaign, IL | 123,938
Charleston, WV | 182,991
Charleston—North Charleston, SC | 423,410
Charlotte, NC-SC | 758,927
Charlottesville, VA | 81,449
Chattanooga, TN-GA | 343,509
Cheyenne, WY | 68,202
Chicago, IL-IN | 8,307,904
Chico, CA | 89,221
Cincinnati, OH-KY-IN | 1,503,262
Clarksville, TN-KY | 121,775
Cleveland, OH | 1,786,647
Cleveland, TN | 58,192
Coeur d'Alene, ID | 74,800
College Station—Bryan, TX | 132,500
Colorado Springs, CO | 466,122
Columbia, MO | 98,779
Columbia, SC | 420,537
Columbus, GA-AL | 242,324
Columbus, IN | 50,227
Columbus, OH | 1,133,193
Concord, CA | 552,624
Concord, NC | 115,057
Corpus Christi, TX | 293,925
Corvallis, OR | 58,229
Dallas—Fort Worth—Arlington, TX | 4,145,659
Dalton, GA | 57,666
Danbury, CT-NY | 154,455
Danville, IL | 53,223
Danville, VA | 50,902
Davenport, IA-IL | 270,626
Davis, CA | 66,022
Dayton, OH | 703,444
Daytona Beach—Port Orange, FL | 255,353
Decatur, AL | 52,315
Decatur, IL | 96,454
DeKalb, IL | 55,805
Deltona, FL | 147,713
Denton—Lewisville, TX | 299,823
Denver—Aurora, CO | 1,984,887
Des Moines, IA | 370,505
Detroit, MI | 3,903,377
Dothan, AL | 60,792
Dover, DE | 65,044
Dover—Rochester, NH-ME | 80,456
Dubuque, IA-IL | 65,251
Duluth, MN-WI | 118,265
Durham, NC | 287,796
Eau Claire, WI | 91,393
El Centro, CA | 52,954
Elkhart, IN-MI | 131,226
Elmira, NY | 67,159
El Paso, TX-NM | 674,801
Erie, PA | 194,804
Eugene, OR | 224,049
Evansville, IN-KY | 211,989
Fairbanks, AK | 51,926
Fairfield, CA | 112,446
Fajardo, PR | 78,595
Fargo, ND-MN | 142,477
Farmington, NM | 53,294
Fayetteville, NC | 276,368
Fayetteville—Springdale, AR | 172,585
Flagstaff, AZ | 57,050
Flint, MI | 365,096
Florence, AL | 71,299
Florence, SC | 67,314
Florida—Barceloneta—Bajadero, PR | 68,811
Fond du Lac, WI | 50,058
Fort Collins, CO | 206,633
Fort Smith, AR-OK | 106,470
Fort Walton Beach, FL | 152,741
Fort Wayne, IN | 287,759
Frederick, MD | 119,144
Fredericksburg, VA | 97,102
Fresno, CA | 554,923
Gadsden, AL | 61,709
Gainesville, FL | 159,508
Gainesville, GA | 88,680
Galveston, TX | 54,770
Gastonia, NC | 141,407
Gilroy—Morgan Hill, CA | 84,620
Glens Falls, NY | 57,627
Goldsboro, NC | 57,915
Grand Forks, ND-MN | 56,573
Grand Junction, CO | 92,362
Grand Rapids, MI | 539,080
Great Falls, MT | 64,387
Greeley, CO | 93,879
Green Bay, WI | 187,316
Greensboro, NC | 267,884
Greenville, NC | 84,059
Greenville, SC | 302,194
Guayama, PR | 77,755
Gulfport—Biloxi, MS | 205,754
Hagåtña, GU | 132,241
Hagerstown, MD-WV-PA | 120,326
Harlingen, TX | 110,770
Harrisburg, PA | 362,782
Harrisonburg, VA | 52,647
Hartford, CT | 851,535
Hattiesburg, MS | 61,465
Hazleton, PA | 51,746
Hemet, CA | 117,200
Hickory, NC | 187,808
High Point, NC | 132,844
Hightstown, NJ | 69,977
Hinesville, GA | 50,360
Holland, MI | 91,795
Honolulu, HI | 718,182
Hot Springs, AR | 51,763
Houma, LA | 125,929
Houston, TX | 3,822,509
Huntington, WV-KY-OH | 177,550
Huntsville, AL | 213,253
Idaho Falls, ID | 66,973
Indianapolis, IN | 1,218,919
Indio—Cathedral City—Palm Springs, CA | 254,856
Iowa City, IA | 85,247
Ithaca, NY | 53,528
Jackson, MI | 88,050
Jackson, MS | 292,637
Jackson, TN | 65,086
Jacksonville, FL | 882,295
Jacksonville, NC | 95,514
Janesville, WI | 66,034
Jefferson City, MO | 53,714
Johnson City, TN | 102,456
Johnstown, PA | 76,113
Jonesboro, AR | 51,804
Joplin, MO | 72,089
Juana Diaz, PR | 54,835
Kailua (Honolulu County)—Kaneohe, HI | 117,730
Kalamazoo, MI | 187,961
Kankakee, IL | 65,073
Kansas City, MO-KS | 1,361,744
Kennewick—Richland, WA | 153,851
Kenosha, WI | 110,942
Killeen, TX | 167,976
Kingsport, TN-VA | 95,766
Kingston, NY | 53,458
Kissimmee, FL | 186,667
Knoxville, TN | 419,830
Kokomo, IN | 63,739
La Crosse, WI-MN | 89,966
Lady Lake, FL | 50,721
Lafayette, IN | 125,738
Lafayette, LA | 178,079
Lafayette—Louisville, CO | 60,387
Lake Charles, LA | 132,977
Lake Jackson—Angleton, TX | 73,416
Lakeland, FL | 199,487
Lancaster, PA | 323,554
Lancaster—Palmdale, CA | 263,532
Lansing, MI | 300,032
Laredo, TX | 175,586
Las Cruces, NM | 104,186
Las Vegas, NV | 1,314,357
Lawrence, KS | 79,647
Lawton, OK | 89,556
Lebanon, PA | 63,681
Leesburg—Eustis, FL | 97,497
Lee's Summit, MO | 55,285
Leominster—Fitchburg, MA | 112,943
Lewiston, ID-WA | 50,317
Lewiston, ME | 50,567
Lexington-Fayette, KY | 250,994
Lima, OH | 74,071
Lincoln, NE | 226,582
Little Rock, AR | 360,331
Livermore, CA | 75,202
Lodi, CA | 83,735
Logan, UT | 76,187
Lompoc, CA | 55,667
Longmont, CO | 72,929
Longview, TX | 78,070
Longview, WA—OR | 60,443
Lorain—Elyria, OH | 193,586
Los Angeles—Long Beach—Santa Ana, CA | 11,789,487
Louisville, KY-IN | 863,582
Lubbock, TX | 202,225
Lynchburg, VA | 98,714
McAllen, TX | 523,144
McKinney, TX | 54,525
Macon, GA | 135,170
Madera, CA | 58,027
Madison, WI | 329,533
Manchester, NH | 143,549
Mandeville—Covington, LA | 62,866
Mansfield, OH | 79,698
Manteca, CA | 51,176
Marysville, WA | 114,372
Mauldin—Simpsonville, SC | 77,831
Mayagüez, PR | 119,350
Medford, OR | 128,780
Memphis, TN-MS-AR | 972,091
Merced, CA | 110,483
Miami, FL | 4,919,036
Michigan City, IN-MI | 66,199
Middletown, NY | 50,071
Middletown, OH | 94,355
Midland, TX | 99,221
Milwaukee, WI | 1,308,913
Minneapolis—St. Paul, MN | 2,388,593
Mission Viejo, CA | 533,015
Missoula, MT | 69,491
Mobile, AL | 317,605
Modesto, CA | 310,945
Monessen, PA | 56,508
Monroe, LA | 113,818
Monroe, MI | 53,153
Montgomery, AL | 196,892
Morgantown, WV | 55,997
Morristown, TN | 54,368
Mount Vernon, WA | 51,174
Muncie, IN | 90,673
Murfreesboro, TN | 135,855
Muskegon, MI | 154,729
Myrtle Beach, SC | 122,984
Nampa, ID | 95,909
Napa, CA | 79,867
Nashua, NH-MA | 197,155
Nashville-Davidson, TN | 749,935
Newark, OH | 70,001
New Bedford, MA | 146,730
New Haven, CT | 531,314
New Orleans, LA | 1,009,283
New York—Newark, NY-NJ-CT | 17,799,861
Norman, OK | 86,478
North Port—Punta Gorda, FL | 122,421
Norwich—New London, CT | 173,160
Ocala, FL | 106,542
Odessa, TX | 111,395
Ogden—Layton, UT | 417,933
Oklahoma City, OK | 747,003
Olympia—Lacey, WA | 143,826
Omaha, NE-IA | 626,623
Orlando, FL | 1,157,431
Oshkosh, WI | 71,070
Owensboro, KY | 67,665
Oxnard, CA | 337,591
Palm Bay—Melbourne, FL | 393,289
Panama City, FL | 132,419
Parkersburg, WV-OH | 85,605
Pascagoula, MS | 54,190
Pensacola, FL-AL | 323,783
Peoria, IL | 247,172
Petaluma, CA | 59,958
Philadelphia, PA-NJ-DE-MD | 5,149,079
Phoenix—Mesa, AZ | 2,907,049
Pine Bluff, AR | 58,584
Pittsburgh, PA | 1,753,136
Pittsfield, MA | 52,772
Pocatello, ID | 62,498
Ponce, PR | 195,037
Port Arthur, TX | 114,656
Porterville, CA | 60,261
Port Huron, MI | 86,486
Portland, ME | 188,080
Portland, OR-WA | 1,583,138
Port St. Lucie, FL | 270,774
Portsmouth, NH-ME | 50,912
Pottstown, PA | 73,597
Poughkeepsie-Newburgh, NY | 351,982
Prescott, AZ | 61,909
Providence, RI-MA | 1,174,548
Provo—Orem, UT | 303,680
Pueblo, CO | 123,351
Racine, WI | 129,545
Radcliff—Elizabethtown, KY | 64,504
Raleigh, NC | 541,527
Rapid City, SD | 66,780
Reading, PA | 240,264
Redding, CA | 105,267
Reno, NV | 303,689
Richmond, VA | 818,836
Riverside—San Bernardino, CA | 1,506,816
Roanoke, VA | 197,442
Rochester, MN | 91,271
Rochester, NY | 694,396
Rockford, IL | 270,414
Rock Hill, SC | 70,007
Rocky Mount, NC | 61,657
Rome, GA | 58,287
Round Lake Beach—McHenry—Grayslake, IL-WI | 226,848
Sacramento, CA | 1,393,498
Saginaw, MI | 140,985
St. Augustine, FL | 53,519
St. Charles, MD | 74,765
St. Cloud, MN | 91,305
St. George, UT | 62,630
St. Joseph, MO-KS | 77,231
St. Louis, MO-IL | 2,077,662
Saipan, MP | 61,695
Salem, OR | 207,229
Salinas, CA | 179,173
Salisbury, MD-DE | 59,426
Salt Lake City, UT | 887,650
San Angelo, TX | 87,969
San Antonio, TX | 1,327,554
San Diego, CA | 2,674,436
Sandusky, OH | 50,693
San Francisco—Oakland, CA | 2,995,769
San Germán—Cabo Rojo—Sabana Grande, PR | 112,939
San Jose, CA | 1,538,312
San Juan, PR | 2,216,616
San Luis Obispo, CA | 53,498
San Rafael—Novato, CA | 232,836
Santa Barbara, CA | 196,263
Santa Clarita, CA | 170,481
Santa Cruz, CA | 157,348
Santa Fe, NM | 80,337
Santa Maria, CA | 120,297
Santa Rosa, CA | 285,408
Sarasota—Bradenton, FL | 559,229
Saratoga Springs, NY | 51,172
Savannah, GA | 208,886
Scranton, PA | 385,237
Seaside—Monterey—Marina, CA | 125,503
Seattle, WA | 2,712,205
Sheboygan, WI | 68,600
Sherman, TX | 56,168
Shreveport, LA | 275,213
Simi Valley, CA | 112,345
Sioux City, IA-NE-SD | 106,119
Sioux Falls, SD | 124,269
Slidell, LA | 79,926
South Bend, IN-MI | 276,498
South Lyon—Howell—Brighton, MI | 106,139
Spartanburg, SC | 145,058
Spokane, WA-ID | 334,858
Springfield, IL | 153,516
Springfield, MA-CT | 573,610
Springfield, MO | 215,004
Springfield, OH | 89,684
State College, PA | 71,301
Stockton, CA | 313,392
Sumter, SC | 64,320
Syracuse, NY | 402,267
Tallahassee, FL | 204,260
Tampa—St. Petersburg, FL | 2,062,339
Temecula—Murrieta, CA | 229,810
Temple, TX | 71,937
Terre Haute, IN | 79,376
Texarkana, TX—Texarkana, AR | 72,288
Texas City, TX | 96,417
The Woodlands, TX | 89,445
Thousand Oaks, CA | 210,990
Titusville, FL | 52,922
Toledo, OH-MI | 503,008
Topeka, KS | 142,411
Tracy, CA | 59,020
Trenton, NJ | 268,472
Tucson, AZ | 720,425
Tulsa, OK | 558,329
Turlock, CA | 69,507
Tuscaloosa, AL | 116,888
Tyler, TX | 101,494
Uniontown—Connellsville, PA | 58,442
Utica, NY | 113,409
Vacaville, CA | 90,264
Valdosta, GA | 57,647
Vallejo, CA | 158,967
Vero Beach—Sebastian, FL | 120,962
Victoria, TX | 61,529
Victorville—Hesperia—Apple Valley, CA | 200,436
Vineland, NJ | 88,724
Virginia Beach, VA | 1,394,439
Visalia, CA | 120,044
Waco, TX | 153,198
Warner Robins, GA | 90,838
Washington, DC-VA-MD | 3,933,920
Waterbury, CT | 189,026
Waterloo, IA | 108,298
Watsonville, CA | 66,500
Wausau, WI | 68,221
Weirton, WV—Steubenville, OH-PA | 73,710
Wenatchee, WA | 55,425
Westminster, MD | 65,034
Wheeling, WV-OH | 87,613
Wichita, KS | 422,301
Wichita Falls, TX | 99,396
Wildwood—North Wildwood—Cape May, NJ | 52,550
Williamsport, PA | 58,693
Wilmington, NC | 161,149
Winchester, VA | 53,559
Winston-Salem, NC | 299,290
Winter Haven, FL | 153,924
Worcester, MA-CT | 429,882
Yakima, WA | 112,816
Yauco, PR | 108,024
York, PA | 192,903
Youngstown, OH-PA | 417,437
Yuba City, CA | 97,645
Yuma, AZ-CA | 94,950
Zephyrhills, FL | 53,979

C. List of Urban Areas (Urbanized Areas and Urban Clusters)

A complete list of the 3,638 qualifying urban areas, which includes both urbanized areas and urban clusters, and the list of central places will be available from the Census Bureau's Urban and Rural Classification Web page at: http://www.census.gov/geo/www/ua/ua_2k.html.

D. List of Major Airports

A list of major airports evaluated for inclusion in urbanized areas and urban clusters will be available from the Census Bureau's Urban and Rural Classification Web page at: http://www.census.gov/geo/www/ua/ua_2k.html.

E. Geographic Products

TIGER/Line® files that contain the boundaries, names, and codes of urbanized areas and urban clusters will be available from the Census Bureau's TIGER/Line® Web page at: http://www.census.gov/geo/www/tiger/index.html. Maps produced by the Census Bureau, showing the boundaries and component geographic entities of urbanized areas and urban clusters, will be available in late 2002. For information updates concerning the availability of maps, data users should monitor the Census Bureau's Urban and Rural Classification Web page at: http://www.census.gov/geo/www/ua/ua_2k.html.

Dated: April 26, 2002.
Charles Louis Kincannon,
Director, Bureau of the Census.

[FR Doc. 02-10805 Filed 4-30-02; 8:45 am]

BILLING CODE 3510-07-P